LEGAL SERVICES CORPORATION

Program Letter 2000-7—State Planning and Performance Measures

AGENCY: Legal Services Corporation.

ACTION: Notice of issuance of Program Letter 2000-7—State Planning and Performance Measures.

SUMMARY: This Notice sets forth the text of Program Letter 2000-7—State Planning and Performance Measures. The program letter announces three strategies to advance LSC's efforts to create comprehensive integrated, coordinated, client-centered state justice communities in each state:

(1) The creation of a team within LSC specifically assigned responsibility for state planning;

(2) A period of self-evaluation by and in each state justice community, with an evaluation report to be issued to LSC at the end of the evaluation period; and

(3) The linking of state planning with the development of new performance measurement tools.

This Program Letter has been sent to each LSC grant recipient and is also posted to the LSC website at www.lsc.gov.

FOR FURTHER INFORMATION CONTACT: Randi Youells, Vice President for Programs, Legal Services Corporation, 750 First Street, NE, Washington, DC 20002-4250; 202/336-7269 (phone); youellsr@lsc.gov.

SUPPLEMENTARY INFORMATION:

Program Letter 2000-7

To: All LSC Program Directors.

From: Randi Youells, Vice President for Programs.

Date: December 13, 2000.

Re: State Planning and Performance Measures, (Building A Stronger Foundation: A Framework for Planning and Evaluating Comprehensive, Integrated and Client-Centered State Justice Communities).

Program Letters 98-1 and 98-6 launched LSC's most recent state planning activities approximately three years ago. Pressured by funding shortfalls and the changing needs of clients and concerned with enhancing system efficiency, effectiveness and the ability to meet clients' legal needs, legal services programs throughout the United States were challenged by these two program letters to become actively engaged in a process of reassessing their delivery practices and policies, restructuring their legal services delivery systems and reallocating their legal services dollars. Essentially, LSC Program Letters 98-1 and 98-6 asked grantees to look at their roles in a new way—to expand their horizons from what's best for the clients in my service area to what is best for clients throughout the state. Using this new lens, programs were asked to report on how they would coordinate and integrate their work in seven important areas—enhancing client access, efficiently delivering high quality legal assistance; effectively using technology to expand access and enhance services; promoting client self-help and preventive legal education and advice; coordinating legal work and training staff; coordinating and collaborating with the private bar; developing additional resources to support legal services delivery; and designing a legal services delivery configuration that enhanced client services, reduced barriers and operated efficiently and effectively.

On January 28, 2000, the LSC Board of Directors approved LSC's 5-year Strategic Direction Plan.¹ This document commits LSC to dramatically enhance the impact of Legal Services programs throughout the nation by improving access to legal services among eligible persons while enhancing the quality of the services delivered. The Plan highlighted LSC's State Planning Initiative as the primary strategy for expanding access to and availability of services throughout the United States.

¹ To download a copy, go to http://www.lsc.gov/pressr/pr_pi.htm.

Over the course of the last three years, many states have begun to develop comprehensive and integrated legal services delivery systems that:

(1) recognize that state justice communities must be broader than just LSC-funded grantees to include both LSC-funded and non-LSC funded sectors of the legal services delivery system, and

(2) provide a continuum of services that encompasses individual representation, extended representation, advice, pro se advocacy, preventative education, community involvement and support, and the use of technology to expand essential services to all low-income persons within a state.

These are exciting developments. However, it continues to be apparent that in many states and territories, the legal services delivery system remains a fragmented set of disconnected services. In many states we continue to find a wide divergence in the availability of services, client access capabilities and civil equal justice resources. This stands in stark contrast to our expectation that the statewide delivery system be constructed and maintained to provide for: (a) Relative equity of client access to the civil legal services delivery system throughout the state; (b) relative equity in the availability of the full range of client service capacities necessary to meet the full continuum of client legal needs regardless of where in the state clients live; (c) relative equity in the capacity to serve client communities in all of their diversity; and (d) relative equity in the investment of civil equal justice resources (federal, state, private, and in-kind/pro bono) throughout the state.

A hallmark of an integrated delivery system is its flexibility to deploy resources in geographic or substantive areas so that quality of services is improved, funds are increased and outcomes for clients are expanded in areas where they are weak. In this context, then, relative equity considers the system's various capacities throughout the state, from region to region, and directs necessary resources to locales where improvement of any sort is required to assure that all low-income people in the state have similar degrees of access to the full spectrum of equal justice services.

In this program letter we are announcing three strategies to advance LSC's efforts to create comprehensive integrated, coordinated, client-centered state justice communities in each state:

(1) The creation of a team within LSC specifically assigned responsibility for state planning;

(2) A period of self-evaluation by and in each state justice community, with an evaluation report to be issued to LSC at the end of the evaluation period; and

(3) The linking of state planning with the development of new performance measurement tools.

The information received from the field on the State Planning Process and Program Letters 98-1 and 98-6 after publication of these two documents in the Federal Register and input derived from more than two years of on-site engagement by LSC staff and consultants in the field were instrumental in the development of these strategies.

The Creation of a State Planning Team within LSC

LSC's Strategic Plan emphasizes that LSC's State Planning Initiative is our primary strategy for expanding access to and availability of services throughout the United States. To stress the importance of this effort and to facilitate the development of state justice communities, LSC will create a planning team to coordinate our state planning activities. This team will be directly attached to and supervised by the LSC Vice-President for Programs.

A Period of Self-Evaluation by and in Each State Justice Community

We are in a period of significant transition moving from an LSC-centric legal services model to comprehensive, integrated and client-centered state justice communities. We acknowledge that the journey is not over and that significant effort remains to ensure that comprehensive justice communities exist and function within every state and territory. As we move forward with our efforts, we must remain conscious of the need to address several questions of fundamental relevance. These include:

(1) To what extent has a comprehensive, integrated client-centered legal services delivery system been achieved in a particular state?

(2) To what extent have intended outcomes of a comprehensive, integrated and client-centered legal service delivery system been achieved including but not limited to service effectiveness/quality; efficiency; equity in terms of client access; greater involvement by members of the private bar in the legal lives of clients; and client-community empowerment?

(3) Are the best organizational and human resource management configurations and approaches being used?

We believe that the next several months are an appropriate time to try to begin to answer these questions. We have been involved in state planning activities for approximately three years, and LSC believes that states need a period of introspection about where they have been and where they are going. Moreover, we can all acknowledge that self-evaluation is a worthwhile and important part of our planning for the creation of comprehensive, integrated, client-centered legal services delivery systems within each state. We are, accordingly, requiring our grantees and requesting that other state planners begin a period of evaluation of their planning efforts and activities over the last three years using the above questions as a framework for the evaluation report. These self-evaluations will inform each state justice community and LSC of what has worked, what has not worked and why, what obstacles stand in planners path, and what steps and support might assist each state to better achieve a comprehensive, integrated, client-centered delivery system that delivers upon the promise of equal justice for all.

Evaluations can be performed by state planners themselves or by outside consultants hired to perform this task. We ask that a single evaluation report for each state be submitted to LSC on or before July 1, 2001 unless LSC has granted your state an extension of time in which to file the report. Please submit your extension requests no later than May 15, 2001, to Robert Gross, Senior Program Counsel for State Planning at LSC. Reports should be no longer that 30 pages (not more than 10 pages single-spaced for each area of inquiry) and should contain the name and telephone number of a contact person(s). Attachments will be accepted as long as they provide additional information that clarifies a particular issue or area of inquiry as identified in the body of the report. The report should assume that the effort to create state justice communities is ongoing and that we do not expect that you have completed your work. Self-evaluation reports should be a candid and honest assessment of the progress that each state has made in creating a comprehensive, integrated and client-centered delivery system as well as of the work that remains to be done. Reports should address the following issues in the order presented:

To what extent has a comprehensive, integrated and client-centered legal services delivery system been achieved in a particular state?

Areas of exploration include:

(1) What are the important issues that impact upon low income people within your state? How is your state responding to these issues?

(2) What are the components of the delivery system?

(3) Has this system created mechanisms to assess its performance in relationship to commonly-accepted external guides such as the ABA Standards for Providers of Civil Legal Services to the Poor, the LSC Performance Criteria or some other set of objective criteria? What is the protocol for undertaking system performance review and when was a review last undertaken?

(4) Does your statewide system work to ensure the availability of equitable legal assistance capacities to clients—regardless of who the clients are, where they reside or the languages they speak? How does your system ensure that clients have equitable access to necessary assistance including self-help, legal education, advice, brief service, and representation in all relevant forums? Please describe what steps you anticipate taking to ensure equitable access in the coming years.

(5) How does the legal service delivery system employ technology to provide increased access and enhanced services to clients throughout the state? What technological initiatives are currently underway and how will they support the integrated statewide delivery system?

(6) How has the legal service delivery system expanded its resources to provide critical legal services to low income clients including hard to reach groups such as migrant farmworkers, Native Americans, the elderly, those with physical or mental disabilities, those confined to institutions, immigrants and the rural poor?

(7) What steps have been implemented within the legal services delivery system and among client communities to identify and nurture new leaders? Do the existing leaders reflect the diversity within the state and within client communities that your delivery system serves? Do your state's equal justice leaders reflect the gender, race, ethnic and economic concerns of important but sometimes overlooked groups within your state? Does the leadership provide opportunities for innovation and experimentation; does it support creative solutions to meet changing needs; are new ideas welcomed; are clients nurtured as leaders? Has the leadership been given sufficient authority and resources to implement needed changes?

(8) What do you envision will be your next steps to achieve a client-centered integrated and comprehensive delivery system within your state or territory? How will clients be actively involved in the determination of these next steps?

(9) What has been the greatest obstacle to achieving a statewide, integrated, client-centered delivery system and how was that obstacle overcome or, alternatively, how do you plan to overcome that obstacle?

(10) Has any benefit-to-cost analysis been made in terms of creating a comprehensive, integrated and client-centered legal services delivery system in your state? If yes, what does your analysis show?

(11) What resources, technical assistance and support would help you meet your goals?

To what extent have intended outcomes of a comprehensive, integrated client-centered legal service delivery system been achieved including but not limited to service effectiveness/quality; efficiency; equity in terms of client access; greater involvement by members of the private bar in the legal lives of clients, and client-community empowerment?

Areas of exploration include:

(1) In terms of the issues impacting upon low-income persons within your state, what strategies have you designed to address these issues and how do you plan to measure your future success in addressing your objectives?

(2) Has the legal services delivery system expanded access and services through coordination with providers throughout the state? Can this be quantified?

(3) Has the quality of services provided by the legal services delivery system improved. How?

(4) Since 1998, has there been improvement in the relative equity of client access throughout the state for all low income clients regardless of who they are, where in the state they reside, what languages they speak, their race/gender/national origin, or the existence of other access barriers? How is this equity achieved?

(5) Since 1998, has there been improvement in the relative equity in terms of the availability of the full range of civil equal justice delivery capacities throughout the state? What mechanisms have been developed to ensure such relative equity is achieved and maintained? Since 1998, has there been improvement in the relative equity in the development and distribution of civil equal justice resources throughout the state? Are there areas of the state that suffer from a disproportionate lack of resources (funding as well as in-kind/pro bono)? If so, is there a strategy to overcome such inequities?

(6) Does this legal services delivery system operate efficiently? Are there areas of duplication?

(7) Has the system expanded the way it involves private lawyers in the delivery of essential services to low-income persons? Does the system effectively and efficiently use the private bar to deliver essential services to low income people?

Are the best organizational and human resource management configurations and approaches being used?

Areas of exploration include:

(1) For calendar year 2001, what is the current configuration of programs (LSC and non-LSC) that deliver services to low income clients—i.e., what are the components (size, areas of responsibility, governance) of the delivery system? What are the funding sources and levels for each of these components of the delivery system?

(2) Since October 1998, what other configurations and/or approaches have been seriously explored? Were any adopted? Were any rejected? Are any changes contemplated in the coming year?

(3) Is there any identifiable duplication in capacities or services in the state? How many duplicative systems—accounting systems, human resources management systems, case management systems, etc.—currently exist? Does the service delivery system now in use minimize or eliminate duplications that existed prior to October 1, 1998?

(4) Since October 1998, what innovative service delivery systems/mechanisms/initiatives have been adopted in the state? Have any been explored and then rejected?

Linking State Planning with the Development of New Performance Measurement Tools

Simultaneously with these self-evaluations, LSC will proceed to contract with a private research firm to formally evaluate legal services delivery systems in a selected number of states. LSC plans to select several states that we believe are at important stages of the planning-implementation process for an outside evaluation. If your state is chosen, you will not have to do the self-evaluation discussed in this program letter. Moreover, LSC will provide discretionary grants and/or technical assistance to assist with and help defray any in-kind program costs associated with this project.

The purpose of these evaluations will be to determine whether or not the delivery model in use in the state has effectively implemented the concepts and principles of a comprehensive, integrated and client-centered legal services delivery system. LSC will study the relationship between the structure of the delivery system and desired outcomes as articulated by the selected states in prior planning documents. The findings of these formal evaluations—together with the material presented in the self-evaluations—will assist LSC and other interested stakeholders in understanding how best to conceptualize, design and deliver comprehensive, integrated and client-centered legal services. We will use this information to begin to develop new performance measurement tools.

Victor M. Fortuno,
General Counsel and Vice President for Legal Affairs.

[FR Doc. 00-33143 Filed 12-27-00; 8:45 am]

BILLING CODE 7050-01-P